DEPARTMENT OF HEALTH AND HUMAN SERVICES

Administration for Children and Families

Proposed Information Collection Activity; Comment Request

Proposed Projects:

Title: Evaluation of the Refugee Social Service (RSS) and Targeted Assistant Formula Grant (TAG) Programs: Data Collection.

OMB No.: 0970-0296.

Description: The Office of Refugee Resettlement (ORR) within the U.S. Department of Health and Human Services (HHS) funds the Refugee Social Services (RSS) and Targeted Assistance Formula Grant (TAG) programs, which are designed to help refugees achieve economic success quickly following their arrival in the United States through employment services, English-language instruction, vocational training, and other social services. ORR is sponsoring a project to (a) conduct a comprehensive evaluation of the effectiveness of ORR employability services through RSS and TAG, and (b) propose options for institutionalizing ongoing evaluation and performance assessment into the programs. ORR is requesting renewal of OMB clearance for a survey of refugees that is collecting data on refugees' employment and earnings outcomes. Survey interviews began in July 2006, and are still ongoing. The survey is being conducted in three cities: Houston, Miami, and Sacramento. The survey relies on a mixed-mode data collection method that involves both telephone and in-person interviews. If individuals cannot be reached by phone, an attempt is made to contact them in person. Three hundred refugees from a randomly selected sample in each site will complete the survey, for a total of 900 refugees.

While locating and interviewing this population was expected to be difficult due to their high mobility, achieving the goal of 900 complete responses needed for reliable analysis, while maintaining reasonable response rates, has proven more time-consuming than expected. As of December 1, 2006, 547 refugees have already completed the survey, and approximately 64 more completions are expected in 2006, meaning that about 289 interviews would occur in 2007. Consequently, ORR is requesting clearance to continue the survey into 2007.

Respondents: Refugees and related populations that qualify for RSS/TAG services who entered the United States between October 1999 and September 2004.

Annual Burden Estimates
Instrument | Number of respondents | Number of responses per respondent | Average burden hours per response | Total burden hours
Survey of Refugees | 289 | 1 | 0.75 | 217

Estimated Total Annual Burden Hours: 217.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn; ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 3, 2007.
Robert Sargis,
Reports Clearance Officer.

[FR Doc. 07-13 Filed 1-5-07; 8:45 am]

BILLING CODE 4184-01-M